DEPARTMENT OF AGRICULTURE

Animal and Plant Health Inspection Service

[Docket No. APHIS-2010-0050]

Animal Traceability; Public Meetings

AGENCY: Animal and Plant Health Inspection Service, USDA.

ACTION: Notice of public meetings.

SUMMARY: This is a notice to inform the public of three upcoming meetings in Kansas City, MO, Riverdale, MD, and Denver, CO, to provide an opportunity for stakeholders to offer their input on the new framework being developed for animal disease traceability. Additional meetings are currently being planned and will be announced in a future notice. The meetings are being organized by the Animal and Plant Health Inspection Service.

DATES: The meetings will be held on May 11, May 13, and May 17, 2010, from 8 a.m. to 4 p.m. each day.

ADDRESSES: The public meeting on May 11, 2010, will be held at the Holiday Inn Kansas City SE—Waterpark, 9103 East 39th Street, Kansas City, MO 64133. The public meeting on May 13, 2010, will be held at the USDA Center at Riverside, 4700 River Road, Riverdale, MD 20737. The public meeting on May 17, 2010, will be held at the Crowne Plaza, Denver International Airport, 15500 East 40th Avenue, Denver, CO 80239.

FOR FURTHER INFORMATION CONTACT: Mr. Neil Hammerschmidt, Program Manager, Animal Disease Traceability, VS, APHIS, 4700 River Road Unit 46, Riverdale, MD 20737-1231; (301) 734-5571.

SUPPLEMENTARY INFORMATION: The U.S. Department of Agriculture (USDA) is currently developing a new, flexible framework for animal disease traceability in the United States. In keeping with its commitment to partnering with States, Tribal Nations, and industry to address many of the details of the infrastructure of this program, including possible regulations, the USDA took the initial step of hosting a State/Tribal forum on animal disease traceability in Kansas City, MO, on March 18 and 19, 2010. Information on the proceedings of the State/Tribal forum is available to the public for review and comment at (http://www.aphis.usda.gov/traceability/forum/index.shtml). We are now planning to host three public meetings to discuss animal disease traceability. The meetings have been set for Kansas City, MO, Riverdale, MD, and Denver, CO (see ADDRESSES).

Tentative topics to be discussed at the upcoming meetings include:

1. The framework for a proposed animal disease traceability rule.

2. Specific details that would help form the animal disease traceability rule.

Written statements on meeting topics, as well as on the proceedings of the March 2010 State/Tribal forum, may be filed with the USDA through May 31, 2010, via the Federal eRulemaking Portal at (http://www.regulations.gov/fdmspublic/component/main?main=DocketDetail&d=APHIS-2010-0050) or by sending them to the person listed under FOR FURTHER INFORMATION CONTACT. Please refer to Docket No. APHIS-2010-0050 when submitting your statements.

Travel directions to the USDA Center at Riverside are available on the Internet at (http://www.aphis.usda.gov/plant_health/general_info/directions_riverdale.shtml). Picture identification is required to gain access to the building. Parking is available next to the building for a $4 fee. The nearest Metro station is the College Park station on the Green Line, which is within walking distance.

For the Denver meeting, there will be a free hotel shuttle to and from Denver International Airport.

Done in Washington, DC, this 30th day of April 2010.

Gregory L. Parham
Acting Administrator, Animal and Plant Health Inspection Service.

[FR Doc. 2010-10561 Filed 5-4-10; 7:19 am]

BILLING CODE 3410-34-S